DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Marion County, Alabama, and Incorporated Areas
Docket No.: FEMA-B-1041
Unnamed Tributary to Reddy Creek | At the confluence with Reedy Creek | +458 | Town of Gu-Win.
| Approximately 1,825 feet upstream of the confluence with Reedy Creek | +459
* National Geodetic Vertical Datum.
+ North American Vertical Datum.
# Depth in feet above ground.
‸ Mean Sea Level, rounded to the nearest 0.1 meter.
ADDRESSES
Town of Gu-Win
Maps are available for inspection at 4835 U.S. Route 43, Gu-Win, AL 35563.
Cowley County, Kansas, and Incorporated Areas
Docket No.: FEMA-B-1016
Black Crook Creek | Approximately 0.38 mile upstream of Simpson Avenue | +1154 | City of Winfield, Unincorporated Areas of Cowley County.
| Approximately 0.16 mile upstream of 152nd Street | +1244
Black Crook Creek Tributary 1 | Approximately 0.36 mile downstream of 101st Road | +1120 | Unincorporated Areas of Cowley County.
| Approximately 0.91 mile upstream of 103rd Road | +1188
Black Crook Creek Tributary 2 | At the confluence with Black Crook Creek | +1132 | City of Winfield, Unincorporated Areas of Cowley County.
| Approximately 350 feet upstream of K-360 | +1183
* National Geodetic Vertical Datum.
+ North American Vertical Datum.
# Depth in feet above ground.
‸ Mean Sea Level, rounded to the nearest 0.1 meter.
ADDRESSES
City of Winfield
Maps are available for inspection at the City Office, 200 East 9th Avenue, Winfield, KS 67156.
Unincorporated Areas of Cowley County
Maps are available for inspection at the Cowley County Office, 311 East 9th Avenue, Winfield, KS 67156.
Edmonson County, Kentucky, and Incorporated Areas
Docket No.: FEMA-B-1074
Alexander Creek (backwater effects from Green River) | From the confluence with the Green River to approximately 240 feet upstream of the confluence with Alexander Creek Tributary 3 | +446 | Unincorporated Areas of Edmonson County.
Bear Creek (backwater effects from Green River) | From the confluence with the Green River to approximately 3.8 miles upstream of the confluence with the Green River | +438 | Unincorporated Areas of Edmonson County.
Beaverdam Creek South (backwater effects from Green River) | From the confluence with the Green River to approximately 3.4 miles upstream of the confluence with the Green River | +449 | City of Brownsville, Unincorporated Areas of Edmonson County.
Beaverdam Creek Tributary 6 (backwater effects from Green River) | From the confluence with Beaverdam Creek South to approximately 1,400 feet upstream of the confluence with Beaverdam Creek South | +449 | City of Brownsville, Unincorporated Areas of Edmonson County.
Brier Creek (backwater effects from Nolin Lake) | From the confluence with Nolin Lake to approximately 0.6 mile upstream of the confluence with Nolin Lake | +560 | Unincorporated Areas of Edmonson County.
Bylew Creek (backwater effects from Green River) | From the confluence with the Nolin River to approximately 1.2 miles upstream of the confluence with the Nolin River | +455 | Unincorporated Areas of Edmonson County.
Dog Creek (backwater effects from Nolin Lake) | From the county boundary to approximately 0.6 mile upstream of the confluence with Dog Creek Tributary 1 | +560 | Unincorporated Areas of Edmonson County.
Green River | At the confluence with Bear Creek | +438 | City of Brownsville, Unincorporated Areas of Edmonson County.
| Approximately 3.4 miles upstream of the confluence with Ugly Creek | +480
Green River Tributary 4 (backwater effects from Green River) | From the confluence with the Green River to approximately 0.6 mile upstream of the confluence with the Green River | +445 | Unincorporated Areas of Edmonson County.
Honey Creek (backwater effects from Green River) | From the confluence with the Green River to approximately 1.6 miles upstream of the confluence with the Green River | +443 | Unincorporated Areas of Edmonson County.
Indian Creek (backwater effects from Green River) | From the confluence with the Green River to approximately 0.9 mile upstream of the confluence with ther Green River | +452 | City of Brownsville, Unincorporated Areas of Edmonson County.
Laurel Branch (backwater effects from Green River) | From the confluence with Beaverdam Creek South to approximately 0.5 mile upstream of the confluence with Beaverdam Creek South | +449 | City of Brownsville.
Little Beaverdam Creek (backwater effects from Green River) | From the confluence with the Green River to approximately 1 mile upstream of the confluence with Sally Branch | +442 | Unincorporated Areas of Edmonson County.
Nolin Lake | Entire shoreline within Edmonson County | +560 | Unincorporated Areas of Edmonson County.
Nolin River (backwater effects from Green River) | From the confluence with the Green River to approximately 0.8 mile upstream of the confluence with Bylew Creek | +455 | Unincorporated Areas of Edmonson County.
Sally Branch (backwater effects from Green River) | From the confluence with Little Beaverdam Creek to approximately 0.6 mile upstream of the confluence with Little Beaverdam Creek | +442 | Unincorporated Areas of Edmonson County.
Ugly Creek (backwater effects from Green River) | From the confluence with the Green River to approximately 1.1 miles upstream of the confluence with the Green River | +477 | Unincorporated Areas of Edmonson County.
Wolf Creek (backwater effects from Nolin Lake) | From the confluence with Dog Creek to approximately 1 mile upstream of the confluence with Dog Creek | +560 | Unincorporated Areas of Edmonson County.
* National Geodetic Vertical Datum.
+ North American Vertical Datum.
# Depth in feet above ground.
‸ Mean Sea Level, rounded to the nearest 0.1 meter.
ADDRESSES
City of Brownsville
Maps are available for inspection at 121 Washington Street, Brownsville, KY 42210.
Unincorporated Areas of Edmonson County
Maps are available for inspection at 108 North Main Street, Brownsville, KY 42210.
Luna County, New Mexico, and Incorporated Areas
Docket No.: FEMA-B-1065
Mimbres River | Approximately 2.1 miles upstream of State Road 549 Southeast | +4151 | Unincorporated Areas of Luna County.
| Approximately 1,500 feet downstream of I-10 | +4282
* National Geodetic Vertical Datum.
+ North American Vertical Datum.
# Depth in feet above ground.
‸ Mean Sea Level, rounded to the nearest 0.1 meter.
ADDRESSES
Unincorporated Areas of Luna County
Maps are available for inspection at 201 East Cody Street, Deming, NM 88030.
Washington County, Rhode Island (All Jurisdictions)
Docket No.: FEMA-B-1075
Mattatuxet River | At the confluence with the Pettaquamscutt River | +10 | Town of North Kingstown.
| At the downstream side of the Gilbert Stuart Dam | +10
Narragansett Bay (Mill Creek) | From a point approximately 500 feet northwest of the intersection of Asqah Drive and Camp Avenue, extending northeast to Quonset Road and following the unnamed tributary to Mill Creek, to a point approximately 600 feet east of the intersection of Camp Avenue and Gateway Road | +12 | Town of North Kingstown.
Pawcatuck River | Approximately 70 feet upstream of Ashaway Road (State Route 3) | +33 | Town of Hopkinton, Town of Richmond.
| Approximately 1,518 feet upstream of Biscuit City Road | +89
Pettaquamscutt River | At the Town of North Kingstown/ South Kingstown/Narragansett corporate limits (approximately 5,060 feet upstream of Bridgetown Road) | +10 | Town of North Kingstown.
| At the confluence with the Mattatuxet River | +10
Tomaquag Brook | At the confluence with the Pawcatuck River | +35 | Town of Hopkinton.
| Approximately 1,210 feet downstream of Chase Hill Road | +35
* National Geodetic Vertical Datum.
+ North American Vertical Datum.
# Depth in feet above ground.
‸ Mean Sea Level, rounded to the nearest 0.1 meter.
ADDRESSES
Town of Hopkinton
Maps are available for inspection at the Town Hall, 1 Town House Road, Hopkinton, RI 028330.
Town of North Kingstown
Maps are available for inspection at the Department of Public Works and Engineering, 2050 Davisville Road, North Kingstown, RI 02852.
Town of Richmond
Maps are available for inspection at the Richmond Town Hall, 5 Richmond Townhouse Road, Wyoming, RI 02898.
Spink County, South Dakota, and Incorporated Areas
Docket No.: FEMA-B-1069
James River | Approximately 2.8 miles upstream of 188th Street | +1253 | Unincorporated Areas of Spink County.
| Approximately 7,920 feet downstream of 149th Street | +1275
* National Geodetic Vertical Datum.
+ North American Vertical Datum.
# Depth in feet above ground.
‸ Mean Sea Level, rounded to the nearest 0.1 meter.
ADDRESSES
Unincorporated Areas of Spink County
Maps are available for inspection at 210 East 7th Avenue, Redfield, SD 57469.
Houston County, Tennessee, and Incorporated Areas
Docket No.: FEMA-B-1066
Tennessee River | Houston County boundary (approximately at River Mile 74.3) | +375 | Unincorporated Areas of Houston County.
| Houston County boundary (approximately at River Mile 82.5) | +375
* National Geodetic Vertical Datum.
+ North American Vertical Datum.
# Depth in feet above ground.
‸ Mean Sea Level, rounded to the nearest 0.1 meter.
ADDRESSES
Unincorporated Areas of Houston County
Maps are available for inspection at 31 East Main Street, 101 Courthouse, Erin, TN 37061.
Macon County, Tennessee, and Incorporated Areas
Docket No.: FEMA-B-1047
Salt Lick Creek | Approximately 1,624 feet upstream of State Route 151 | +778 | Unincorporated Areas of Macon County.
| Approximately 1,965 feet upstream of State Route 151 | +778
* National Geodetic Vertical Datum.
+ North American Vertical Datum.
# Depth in feet above ground.
‸ Mean Sea Level, rounded to the nearest 0.1 meter.
ADDRESSES
Unincorporated Areas of Macon County
Maps are available for inspection at 201 County Courthouse, Lafayette, TN 37083.
Stewart County, Tennessee, and Incorporated Areas
Docket No.: FEMA-B-1065
Tennessee River | At the Houston County boundary (approximately at River Mile 74.2) | +375 | Unincorporated Areas of Stewart County.
| At the State of Kentucky/State of Tennessee boundary (approximately at River Mile 49.2) | +375
* National Geodetic Vertical Datum.
+ North American Vertical Datum.
# Depth in feet above ground.
‸ Mean Sea Level, rounded to the nearest 0.1 meter.
ADDRESSES
Unincorporated Areas of Stewart County
Maps are available for inspection at 226 Lakeview Drive, Dover, TN 37058.
Bowie County, Texas, and Incorporated Areas
Docket No.: FEMA-B-1034
Days Creek | Approximately 4,910 feet downstream of Loop 151 | +255 | Unincorporated Areas of Bowie County.
| Approximately 1,480 feet upstream of Lubbock Street | +273
No Name Creek | Approximately 1,015 feet upstream of Lakeridge Drive | +281 | Unincorporated Areas of Bowie County.
| Approximately 1,273 feet downstream of Lakeridge Drive | +290
Unnamed Tributary of Day's Creek | At the confluence with Unnamed Tributary and Days Creek | +259 | Unincorporated Areas of Bowie County.
| Approximately 2,663 feet upstream of the confluence with Days Creek | +261
* National Geodetic Vertical Datum.
+ North American Vertical Datum.
# Depth in feet above ground.
‸ Mean Sea Level, rounded to the nearest 0.1 meter.
ADDRESSES
Unincorporated Areas of Bowie County
Maps are available for inspection at the Bowie County Courthouse, 710 James Bowie Drive, New Boston, TX 75570.
Goliad County, Texas, and Incorporated Areas
Docket Nos.: FEMA-B-7774 and FEMA-B-1060
Maddox Branch | Approximately 65 feet upstream of Fulcord Street | +142 | City of Goliad.
| Approximately 1,550 feet upstream of U.S. Route 183 | +199
San Antonio River | Approximately 600 feet upstream of the confluence with Maddox Branch | +142 | City of Goliad, Unincorporated Areas of Goliad County.
| Approximately 1,300 feet upstream of South San Patricio Street | +147
Southwest City Drain | Approximately 950 feet downstream of Fannin Street | +147 | City of Goliad.
| Approximately 150 feet upstream of West Oak Street | +199
Sparrow Branch | Approximately 475 feet downstream of Hord Street | +146 | City of Goliad.
| Approximately 825 feet upstream of Sunset Avenue | +199
* National Geodetic Vertical Datum.
+ North American Vertical Datum.
# Depth in feet above ground.
‸ Mean Sea Level, rounded to the nearest 0.1 meter.
ADDRESSES
City of Goliad
Maps are available for inspection at 152 West End Street, Goliad, TX 77963.
Unincorporated Areas of Goliad County
Maps are available for inspection at 127 North Courthouse Square, Goliad, TX 77963.
Karnes County, Texas, and Incorporated Areas
Docket Nos.: FEMA-B-7774 and FEMA-B-1061
Escondido Creek | Approximately 700 feet downstream of the confluence with Nichols Creek | +258 | City of Kenedy, Unincorporated Areas of Karnes County.
| Approximately 450 feet upstream of the confluence with Panther Creek | +274
Marcelinas Creek | Approximately 730 feet upstream of the confluence with Tributary 1 to Marcelinas Creek Watershed | +300 | City of Falls City, Unincorporated Areas of Karnes County.
| Approximately 830 feet upstream of the confluence with Tributary 8 to Marcelinas Creek Watershed | +307
Nichols Creek | Approximately 265 feet downstream of South 2nd Street | +269 | City of Kenedy.
Ojo de Agua Creek | Approximately 1,050 feet downstream of FM 81 | +262 | Town of Runge, Unincorporated Areas of Karnes County.
| Approximately 860 feet upstream of the confluence with Tributary 9 to Ojo de Agua Watershed | +287
San Antonio River | Approximately 460 feet downstream of the confluence with Marcelinas Creek | +300 | City of Falls City, Unincorporated Areas of Karnes County.
| Approximately 1,440 feet downstream of the confluence with Tributary 199 to Lower San Antonio River Watershed | +304
* National Geodetic Vertical Datum.
+ North American Vertical Datum.
# Depth in feet above ground.
‸ Mean Sea Level, rounded to the nearest 0.1 meter.
ADDRESSES
City of Falls City
Maps are available for inspection at 208 North Irvin Street, Falls City, TX 78113.
City of Kenedy
Maps are available for inspection at 303 West Main Street, Kenedy, TX 78119.
Town of Runge.
Maps are available for inspection at 109 North Helena, Runge, TX 78151.
Unincorporated Areas of Karnes County
Maps are available for inspection at the Karnes County Courthouse, 101 North Panna Maria, Karnes City, TX 78118.
Upshur County, Texas, and Incorporated Areas
Docket No.: FEMA-B-1066
Victory Branch | Approximately 680 feet downstream of Salt Water Road | +315 | Unincorporated Areas of Upshur County.
| Approximately 650 feet downstream of Salt Water Road | +315
* National Geodetic Vertical Datum.
+ North American Vertical Datum.
# Depth in feet above ground.
‸ Mean Sea Level, rounded to the nearest 0.1 meter.
ADDRESSES
Unincorporated Areas of Upshur County
Maps are available for inspection at the Upshur County Courthouse, 100 West Tyler Street, Gilmer, TX 75644.

(Catalog of Federal Domestic Assistance No. 97.022, “Flood Insurance.”)

Dated: October 14, 2010.
Edward L. Connor,
Acting Federal Insurance and Mitigation Administrator, Department of Homeland Security, Federal Emergency Management Agency.

[FR Doc. 2010-26311 Filed 10-18-10; 8:45 am]

BILLING CODE 9110-12-P